DEPARTMENT OF HOMELAND SECURITY

Coast Guard

33 CFR Part 165

[CGD09-04-020]

RIN 2115-AA87

Security Zone; Captain of the Port Chicago Zone, Lake Michigan

AGENCY: Coast Guard, DHS.

ACTION: Notice of proposed rulemaking.

SUMMARY: The Coast Guard proposes to remove the security zone around the Byron Nuclear Power Plant and add a security zone around the Hammond Intake Crib on Lake Michigan. It has been determined that the removal of the security zone for the Byron Nuclear Power Plant would not increase the plant's vulnerability. The Hammond Intake Crib Security Zone is necessary to protect the fresh water supply from possible sabotage or other subversive acts, accidents, or possible acts of terrorism. The new zone is intended to restrict vessel traffic from a portion of Lake Michigan.

DATES: Comments and related material must reach the Coast Guard on or before October 4, 2004.

ADDRESSES: You may mail comments and related material to U.S. Coast Guard Marine Safety Office (MSO) Chicago, 215 West 83rd Street, Suite D, Burr Ridge, IL 60527. MSO Chicago maintains the public docket for this rulemaking. Comments and material received from the public, as well as documents indicated in this preamble as being available in the docket, will become part of this docket and will be available for inspection or copying at MSO Chicago between 7 a.m. and 3:30 p.m., Monday through Friday, except Federal holidays.

FOR FURTHER INFORMATION CONTACT: ENS Christopher Brunclik, MSO Chicago, at (630) 986-2155.

SUPPLEMENTARY INFORMATION:

Request for Comments

We encourage you to participate in this rulemaking by submitting comments and related material. If you do so, please include your name and address, identify the docket number for this rulemaking (CGD09-04-020), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to U.S. Coast Guard Marine Safety Office Chicago at the address under ADDRESSES explaining why one would be beneficial. If we determine that one would aid this rulemaking, we will hold one at a time and place announced by a later notice in the Federal Register.

Background and Purpose

On September 11, 2001, the United States was the target of coordinated attacks by international terrorists resulting in catastrophic loss of life, the destruction of the World Trade Center, and significant damage to the Pentagon. Current events indicate that significant threats still exist for this type of attack. In fact, National security and intelligence officials warn that future terrorists attacks are likely. The Coast Guard is responding by, amongst many other things, establishing security zones around critical infrastructure.

We propose to remove the Byron Nuclear Power Plant security zone and add a security zone around the Hammond Intake Crib. It has been determined the removal of the security zone for the Byron Nuclear Power Plant would not increase its vulnerability. The proposed Hammond Intake Crib security zone is necessary to protect the public, facilities, and the surrounding area from possible sabotage or other subversive acts. All persons other than those approved by the Captain of the Port Chicago, or his on-scene representative, are prohibited from entering or moving within the zone. The Captain of the Port Chicago may be contacted via phone at the above contact number.

Discussion of Proposed Rule

On August 16, 2002, the Coast Guard published a final rule establishing a permanent security zone on the waters of the Rock River within a 100-yard radius of the Byron Nuclear Power Plant (67 FR 53501). The CFR section number for this security zone was corrected on October 23, 2002 (67 FR 65041). This rulemaking proposes to remove this security zone for the Byron Nuclear Power plant and to create one for the Hammond Intake Crib.

The need for a security zone at Byron was discussed during security planning meetings with the Byron Nuclear Training Facility Chief of Security, Ogle County Sheriff's Department and the United States Coast Guard. The current security zone encompasses the cooling water intake on the Rock River located over 1 mile away from the facility. If the intake were to be made inoperable the facility would experience an “inconvenience” rather than a detrimental consequence. In addition, there would be enough time to shut down the plant before the lack of cooling water would be an issue. Thus, the Coast Guard has determined that the security zone for Byron Nuclear Facility is no longer needed.

Because of new and additional security concerns, the Coast Guard wishes to create a permanent security zone around the Hammond Intake Crib to protect this fresh water supply. Through this rulemaking, we propose to establish a security zone for the following location: All waters encompassed by the arc of a circle with a 100-yard radius with its center in approximate position 41°42′15″ N, 087°29′49″ W (Hammond Intake Crib). These coordinates are based upon North American Datum 1983 (NAD 83).

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. Since this security zone is not located near commercial vessel shipping lanes, there will be no impact on commercial vessel traffic as a result of this security zone.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This security zone will not have a significant economic impact on a substantial number of small entities for the following reasons. This rule will not obstruct the regular flow of traffic and will allow vessel traffic to pass around the security zone.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the office listed in Addresses in this preamble.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520.).

Federalism

A rule has implications for Federalism under Executive Order 13132, if is has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

Environment

We have analyzed this proposed rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation.

Under figure 2-1, paragraph (34)(g) of the Instruction, an “Environmental Analysis Check List” and a “Categorical Exclusion Determination” are not required for this rule. Comments on this section will be considered before we make the final decision on whether to categorically exclude this rule from further environmental review.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. In § 165.910, revise paragraph (a)(5) to read as follows:

§ 165.910 Security Zones; Captain of the Port Chicago, Zone, Lake Michigan.

* * * * *

(5) Hammond Intake Crib. All navigable waters bounded by the arc of a circle with a 100-yard radius with its center in approximate position 41°42′15″ N, 087°29′49″ W (NAD 83).

* * * * *

Dated: June 21, 2004.
T.W. Carter,
Captain, U.S. Coast Guard, Captain of the Port Chicago.

[FR Doc. 04-17741 Filed 8-3-04; 8:45 am]

BILLING CODE 4910-15-P